DEPARTMENT OF TRANSPORTATION

National Highway Traffic Safety Administration

[Docket No. NHTSA-2019-0099; Notice 1]

Toyota Motor North America, Inc., Receipt of Petition for Decision of Inconsequential Noncompliance

AGENCY: National Highway Traffic Safety Administration (NHTSA), Department of Transportation (DOT).

ACTION: Receipt of petition.

SUMMARY: Toyota Motor North America, Inc., (Toyota) has determined that certain model year (MY) 2019-2020 Toyota Tundra motor vehicles do not fully comply with Federal Motor Vehicle Safety Standard (FMVSS) No. 110, Tire Selection and Rims and Motor Home/Recreation Vehicle Trailer Load Carrying Capacity Information for Motor Vehicles with a GVWR of 4,536 Kilograms (10,000 Pounds) or Less. Toyota filed a noncompliance report dated September 18, 2019. Toyota subsequently petitioned NHTSA on October 7, 2019, and later amended its petition on January 3, 2020, for a decision that the subject noncompliance is inconsequential as it relates to motor vehicle safety. This document announces receipt of Toyota's petition.

DATES: Send comments on or before March 30, 2020.

ADDRESSES: Interested persons are invited to submit written data, views, and arguments on this petition. Comments must refer to the docket and notice number cited in the title of this notice and may be submitted by any of the following methods:

• Mail: Send comments by mail addressed to the U.S. Department of Transportation, Docket Operations, M-30, West Building Ground Floor, Room W12-140, 1200 New Jersey Avenue SE, Washington, DC 20590.

• Hand Delivery: Deliver comments by hand to the U.S. Department of Transportation, Docket Operations, M-30, West Building Ground Floor, Room W12-140, 1200 New Jersey Avenue SE, Washington, DC 20590. The Docket Section is open on weekdays from 10 a.m. to 5 p.m. except for Federal Holidays.

• Electronically: Submit comments electronically by logging onto the Federal Docket Management System (FDMS) website at https://www.regulations.gov/. Follow the online instructions for submitting comments.

• Comments may also be faxed to (202) 493-2251.

Comments must be written in the English language, and be no greater than 15 pages in length, although there is no limit to the length of necessary attachments to the comments. If comments are submitted in hard copy form, please ensure that two copies are provided. If you wish to receive confirmation that comments you have submitted by mail were received, please enclose a stamped, self-addressed postcard with the comments. Note that all comments received will be posted without change to https://www.regulations.gov, including any personal information provided.

All comments and supporting materials received before the close of business on the closing date indicated above will be filed in the docket and will be considered. All comments and supporting materials received after the closing date will also be filed and will be considered to the fullest extent possible.

When the petition is granted or denied, notice of the decision will also be published in the Federal Register pursuant to the authority indicated at the end of this notice.

All comments, background documentation, and supporting materials submitted to the docket may be viewed by anyone at the address and times given above. The documents may also be viewed on the internet at https://www.regulations.gov by following the online instructions for accessing the dockets. The docket ID number for this petition is shown in the heading of this notice.

DOT's complete Privacy Act Statement is available for review in a Federal Register notice published on April 11, 2000 (65 FR 19477-78).

SUPPLEMENTARY INFORMATION:

I. Overview: Toyota has determined that certain MY 2019-2020 Toyota Tundra motor vehicles do not fully comply with paragraph S4.3(d) of FMVSS No. 110, Tire Selection and Rims and Motor Home/Recreation Vehicle Trailer Load Carrying Capacity Information for Motor Vehicles with a GVWR of 4,536 Kilograms (10,000 Pounds) or Less (49 CFR 571.110). Toyota filed a noncompliance report dated September 18, 2019, pursuant to 49 CFR part 573, Defect and Noncompliance Responsibility and Reports. Toyota subsequently petitioned NHTSA on October 7, 2019, and later amended on January 3, 2020, for an exemption from the notification and remedy requirements of 49 U.S.C. Chapter 301 on the basis that this noncompliance is inconsequential as it relates to motor vehicle safety, pursuant to 49 U.S.C. 30118(d) and 30120(h) and 49 CFR part 556, Exemption for Inconsequential Defect or Noncompliance.

This notice of receipt of Toyota's petition is published under 49 U.S.C. 30118 and 30120 and does not represent any Agency decision or other exercise of judgment concerning the merits of the petition.

II. Vehicles Involved: Approximately 1,667 MY 2019-2020 Toyota Tundra motor vehicles, manufactured between March 28, 2019, and August 19, 2019, are potentially involved.

III. Noncompliance: Toyota explains that the noncompliance is that the subject vehicles have tire information labels that contain spare tire size information that does not match the installed spare tire size.

IV. Rule Requirements: Paragraph S4.3(d) of FMVSS No. 110 includes the requirements relevant to this petition. Each vehicle, except for a trailer or incomplete vehicle, shall show the information specified in paragraph S4.3(d) Tire size designation, indicated by the headings “size” or “original tire size” or “original size,” and “spare tire” or “spare,” for the tires installed at the time of the first purchase for purposes other than resale. For full-size spare tires, the statement “see above” may, at the manufacturer's option replace the tire size designation. If no spare tire is provided, the word “none” must replace the tire size designation.

V. Summary of Toyota's Petition: The following views and arguments presented in this section, V. Summary of Toyota's Petition, are the views and arguments provided by Toyota. They have not been evaluated by the Agency and do not reflect the views of the Agency.

Toyota described the subject noncompliance and stated its belief that the noncompliance is inconsequential as it relates to motor vehicle safety. Toyota believes that the noncompliance is inconsequential to motor vehicle safety for the following reasons:

1. There is no issue with the spare tire installed on the vehicle; it is a tire/wheel combination that is designed for this vehicle and meets all other applicable FMVSS. In addition, the cold tire inflation pressure specified on the placard is correct and is the recommended pressure for both spare tire sizes.

a. The spare tire installed on the vehicle (P255/70R18) meets all applicable FMVSS. It is the appropriate temporary spare tire that was designed for the vehicle and meets the vehicle loading requirements. Only the spare tire size information indicated on the placard is incorrect and reflects the size of the spare that was used on the Tundra prior to a production change. All the other information on the placard is accurate, including the cold tire inflation pressure.

b. In addition, if the vehicle owner wanted to check the size of the spare tire that is installed on the vehicle, the information is in the owner's manual and is also molded into the spare tire sidewall.

c. Given the intent of FMVSS No. 110, S4.3(d), Toyota believes that, because the spare tire installed on the vehicle is the appropriate tire for the vehicle performance and loading requirements, there is no risk to motor vehicle safety.

2. There is also no issue if the installed spare tire is replaced with one of the sizes indicated on the incorrect placard. This would also be a tire/wheel combination that is designed for this vehicle and would meet all other applicable FMVSS because the replacement spare tire would be the same size as the spare tire originally equipped on the Tundra prior to the production change and would be the same size as the four main tires on the subject vehicles.

a. The spare tire size indicated on the incorrect placard was also designed for the subject vehicles and meets all applicable FMVSS. This spare tire wheel combination (P275/65R18) is the same size as the four main tires installed on the subject vehicles. It was used as a spare tire on the prior model year Tundra and on the 2019MY Tundra prior to the adoption of the current spare tire size (P255/70R18).

b. In addition, the recommended spare tire inflation pressure and wheel size (R18) are the same for the subject vehicles as the prior model year Tundra.

c. Because both spare tire sizes are appropriate for the vehicle loading specifications, were designed for the subject vehicles, meet all applicable FMVSS, and the wheel size and recommended tire pressure are the same, Toyota believes there is no risk to occupant safety should a P275/65R18 tire be used in place of the one equipped on the vehicle.

3. Toyota is unaware of any owner complaints, field reports, or allegations of hazardous circumstances concerning the incorrect spare tire placard in the subject vehicles. Toyota has searched its records for reports or other information concerning the tire placard and spare tire in the subject vehicles. No owner complaints, field reports, or allegations of hazardous circumstances concerning the placard or tire were found.

4. NHTSA has previously granted at least five similar petitions for inconsequential noncompliance for inaccurate tire placards. A brief summary of each petition is provided below:

a. Daimler Chrysler Corporation, 73 FR 11462 (March 3, 2008) Dodge Dakota pickup trucks had the spare tire size indicated on the placard that did not match the size of the spare tire installed on the vehicle.

b. Mercedes-Benz USA, LLC (MBUSA) 78 FR 43967 (July 22, 2013) Vehicle placard on the affected vehicles incorrectly identified the tire size designation of the spare tire in the vehicle.

c. Volkswagen Group of America, Inc., 81 FR 88728 (December 8, 2016) Subject vehicles had a tire placard label that was misprinted with an incorrect tire size as compared to the tires the vehicle was equipped with.

d. Mercedes-Benz USA, LLC, 82 FR 5640 (January 18, 2017) The tire information placard affixed to the vehicles' B-pillar incorrectly identified the spare tire size.

e. General Motors, LLC, 84 FR 25117 (May 30, 2019) Subject vehicles were equipped tire placards that stated the spare tire size is “None” when in fact it should have been “T125/70R17” and omitted the cold tire pressure for the spare tire when it should have read “420 kPa, 60 psi”.

Toyota concludes that the subject noncompliance is inconsequential as it relates to motor vehicle safety and that its petition to be exempted from providing notification of the noncompliance, as required by 49 U.S.C. 30118, and a remedy for the noncompliance, as required by 49 U.S.C. 30120, should be granted.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, any decision on this petition only applies to the subject vehicles that Toyota no longer controlled at the time it determined that the noncompliance existed. However, any decision on this petition does not relieve vehicle distributors and dealers of the prohibitions on the sale, offer for sale, or introduction or delivery for introduction into interstate commerce of the noncompliant vehicles under their control after Toyota notified them that the subject noncompliance existed.

Authority: (49 U.S.C. 30118, 30120: delegations of authority at 49 CFR 1.95 and 501.8).

Otto G. Matheke III,
Director, Office of Vehicle Safety Compliance.

[FR Doc. 2020-03961 Filed 2-26-20; 8:45 am]

BILLING CODE 4910-59-P